COMMITTEE FOR PURCHASE FROM PEOPLE WHO ARE BLIND OR SEVERELY DISABLED

Information Collection To Be Submitted to the Office of Management and Budget (OMB) for Approval Under the Paperwork Reduction Act; Initial Certification

AGENCY: Committee for Purchase From People Who Are Blind or Severely Disabled.

ACTION: Notice; request for comments.

SUMMARY: The Committee for Purchase From People Who Are Blind or Severely Disabled (Committee) is submitting the information collection listed below to OMB for approval under the provisions of the Paperwork Reduction Act. This notice solicits comments on those information collection activities.

DATES: Submit your written comments on the information collection on or before April 8, 2009.

ADDRESSES: Submit your comments on the requirements to Edward Yang, Chief Information Officer, Committee for Purchase From People Who Are Blind or Severely Disabled, 1421 Jefferson Davis Highway, Jefferson Plaza 2, Suite 10800, Arlington, VA 22202-3259; fax (703) 603-0655; or e-mail to rulecomments@abilityone.gov.

FOR FURTHER INFORMATION CONTACT: Edward Yang to request a copy of the applicable forms or explanatory material at the addresses shown above.

SUPPLEMENTARY INFORMATION: The Office of Management and Budget (OMB) regulations at 5 CFR Part 1320, which implement provisions of the Paperwork Reduction Act of 1995 (44 U.S.C. 3501 et seq.), require that interested members of the public and affected agencies have an opportunity to comment on information collection and recordkeeping activities [see 5 CFR 1320.8(d)]. The Committee plans to submit a request to OMB to renew its approval of the information collection concerning initial certification of nonprofit agencies serving people who are blind or who have other severe disabilities to participate in the Javits-Wagner-O'Day (JWOD) Program. The Committee will request a 3-year term of approval for these information collection activities.

Federal agencies may not conduct or sponsor, and a person is not required to respond to, a collection of information unless it displays a currently valid OMB control number. The OMB control numbers for these collections of information are 3037-0002 and 3037-0001.

The Javits-Wagner-O'Day Act of 1971 (41 U.S.C. 46-48c) is the authorizing legislation for the AbilityOne Program. The AbilityOne Program creates jobs and training opportunities for people who are blind or who have other severe disabilities. Its primary means of doing so is by requiring Government agencies to purchase selected products and services from nonprofit agencies employing such individuals. The AbilityOne Program is administered by the Committee. Two national, independent organizations, National Industries for the Blind (NIB) and NISH, help State and private nonprofit agencies participate in the AbilityOne Program.

The implementing regulations for the Javits-Wagner-O'Day Act, which are located at 41 CFR Chapter 51, provide the requirements, procedures, and standards for the AbilityOne Program. Section 51-4.2 of the regulations sets forth the standards that a nonprofit agency must meet to qualify for participation in the AbilityOne Program. Under this section of the regulations, a nonprofit agency that would like to participate in the AbilityOne Program must submit documentation (e.g., articles of incorporation and by-laws) demonstrating its nonprofit status and a completed copy of the appropriate Initial Certification form (Committee Form 401 or 402). This documentation helps the Committee determine whether the applicant nonprofit agency is appropriate for inclusion in the AbilityOne Program.

This information collection renewal request seeks approval for the Committee to continue to collect the information required under 41 CFR 51-4.3 of the regulations so that the Committee can continue to verify the appropriateness of nonprofit agencies that would like to participate in the AbilityOne Program. There are no changes to these current collection activities in this renewal request.

Title: Annual Certification—Qualified Nonprofit Agency Serving People Who Are Blind, 41 CFR 51-4.2.

OMB Control Number: 3037-0001.

Form Number: Committee Form 403.

Description of Respondents: Nonprofit agencies serving people who are blind that would like to participate in the AbilityOne Program.

Annual Number of Respondents: About 70 nonprofit agencies serving people who are blind will annually request to be newly verified for participation in the AbilityOne Program.

Total Annual Burden Hours: Burden is estimated to average 6 hours per respondent. Total annual burden is 420 hours. Note: This burden estimate is only for the reporting of information; a separate burden estimate exists for the recordkeeping requirement.

Title: Initial Certification—Qualified Nonprofit Agency Serving People Who Are Severely Disabled, 41 CFR 51-4.2.

OMB Control Number: 3037-0002.

Form Number: Committee Form 404.

Description of Respondents: Nonprofit agencies serving people who are severely disabled that would like to participate in the AbilityOne Program.

Annual Number of Respondents: About 550 nonprofit agencies serving people who are severely disabled will annually request to be newly verified for participation in the AbilityOne Program.

Total Annual Burden Hours: Burden is estimated to average 6 hours per respondent. Total annual burden is 3,300 hours. Note: This burden estimate is only for the reporting of information; a separate burden estimate exists for the recordkeeping requirement.

We invite comments concerning this renewal on: (1) Whether the collection of information is necessary for the proper performance of our agency's functions, including whether the information will have practical utility; (2) the accuracy of our estimate of the burden of the collection of information; (3) ways to enhance the quality, utility, and clarity of the information to be collected; and (4) ways to minimize the burden of the collection of information on respondents.

Kimberly M. Zeich,
Deputy Executive Director.

[FR Doc. E9-2230 Filed 2-2-09; 8:45 am]

BILLING CODE 6353-01-P